DEPARTMENT OF ENERGY

Federal Energy Regulatory Commission

[Docket No. PF07-3-000]

Floridian Natural Gas Storage Company, LLC; Notice of Intent To Prepare an Environmental Impact Statement for the Proposed Floridian Natural Gas Storage Project; Request for Comments on Environmental Issues and Notice of a Public Meeting

February 15, 2007.

The staff of the Federal Energy Regulatory Commission (FERC or Commission) is in the process of evaluating the Floridian Natural Gas Storage Project planned by Floridian Natural Gas Storage Company, LLC (FGS). The project would consist of a natural gas storage facility located in Martin County, Florida, north of Indiantown, Florida, and two approximately 4-mile-long natural gas pipelines, extending northwest from the facility to interconnect with the existing interstate pipeline systems of Florida Gas Transmission (FGT) and Gulfstream Natural Gas System, L.L.C. (Gulfstream).

As a part of this evaluation, FERC staff will prepare an environmental impact statement (EIS) that will address the environmental impacts of the project. Comments on the project may be submitted in written form or verbally. Further details on how to submit written comments are provided in the Public Participation section of this NOI. In lieu of sending written comments, we invite you to attend the following public scoping meeting and site visit scheduled as follows: Wednesday, March 7, 2007, 7 p.m., Indiantown Civic Center, 15675 SW Osceola Street, Indiantown FL 34956, (772) 597-2886.

FERC will be conducting a site visit of the proposed project on March 7, 2007, beginning at the Indiantown Civic Center parking lot at 4 p.m. and returning to the lot before 6 p.m. Please note that the applicant will provide a small bus or allow a caravan of private vehicles to the project site. The project pipelines will be viewed from public rights-of-way from the vehicle.

The Commission will use the EIS in its decision-making process to determine whether or not to authorize the project. This Notice of Intent (NOI) explains the scoping process we ¹ will use to gather information on the project from the public and interested agencies. Your input will help identify the issues that need to be evaluated in the EIS. Please note that scoping comments are requested by March 19, 2007.

¹ “We,” “us,” and “our” refer to the environmental staff of the FERC's Office of Energy Projects.

This NOI is being sent to Federal, State, and local government agencies; elected officials; affected landowners; environmental and public interest groups; Indian tribes and regional Native American organizations; commentors and other interested parties; and local libraries and newspapers. We encourage government representatives to notify their constituents of this planned project and encourage them to comment on their areas of concern.

Summary of the Proposed Project

The proposed project will consist of a natural gas storage facility with a capacity of up to 8,000,000 dekatherms per day (dt/d) of sendout capacity. Additional equipment at the facility will include liquefaction facilities, re-vaporization facilities, two 4-mile-long pipelines to connect with existing interstate natural gas pipelines, and metering facilities.

Natural Gas Storage Facility

The Floridian Natural Gas Storage Project will consist of the following:

• Two 190,000 m³ net capacity full-containment natural gas storage tanks;

• Liquefaction equipment;

• Process equipment;

• Boil-off gas (BOG) compression system;

• Re-vaporization equipment; and

• Electrical, control, and hazard protection system.

Pipelines

The pipelines to interconnect with the interstate natural gas pipelines will consist of the following:

• Two 4-mile-long, 24- and 10-inch-diameter natural gas pipelines (sendout and receiving, respectively) with capacity to deliver up to 8,000,000 dt/d;

• An interconnection with both the FGT and Gulfstream pipeline systems;

• Metering, flow control/pressure control, odorant, and security systems; and

• Pig launching and receiving facilities.

FGS proposes to begin construction of the project in second quarter-2008 with a projected in-service date early in the second quarter of 2011.

A location map depicting FGS' proposed facilities is attached to this NOI as Appendix 1 (Figures 1 and 2).²

² The appendices referenced in this notice are not being printed in the Federal Register. Copies are available on the Commission's Web site (excluding maps) at the “e-Library” link or from the Commission's Public Reference Room or call (202) 502-8371. For instructions on connecting to e-Library refer to the end of this notice. Copies of the appendices were sent to all those receiving this notice in the mail.

The EIS Process

The National Environmental Policy Act (“NEPA”) requires the Commission to take into account the environmental impacts that could result from an action when it considers whether or not a natural gas storage facility should be approved. The FERC will use the EIS to consider the environmental impacts that could result if it issues project authorizations to FGS under section 7 of the Natural Gas Act. The NEPA also requires us to discover and address concerns the public may have about proposals. This process is referred to as “scoping.” The main goal of the scoping process is to focus the analysis in the EIS on the important environmental issues. With this NOI, the Commission staff is requesting public comments on the scope of the issues to be addressed in the EIS. All comments received will be considered during preparation of the EIS.

In the EIS we will discuss impacts that could occur as a result of the construction, operation, maintenance, and abandonment of the proposed project under these general headings:

• Geology and Soils.

• Water Resources.

• Aquatic Resources.

• Vegetation and Wildlife.

• Threatened and Endangered Species.

• Land Use, Recreation, and Visual Resources.

• Cultural Resources.

• Socioeconomics.

• Air Quality and Noise.

• Reliability and Safety.

• Cumulative Impacts.

In the EIS, we will also evaluate possible alternatives to the proposed project or portions of the project, and make recommendations on how to lessen or avoid impacts on affected resources.

Our independent analysis of the issues will be included in a draft EIS. The draft EIS will be mailed to federal, state, and local government agencies; elected officials; affected landowners; environmental and public interest groups; Indian tribes and regional Native American organizations; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this NOI.

Although no formal application has been filed, the FERC staff has already initiated its NEPA review under its pre-filing process. The purpose of the pre-filing process is to encourage early involvement of interested stakeholders and to identify and resolve issues before an application is filed with the FERC.

With this NOI, we are asking Federal, State, and local agencies with jurisdiction and/or special expertise with respect to environmental issues, especially those identified in Appendix 2, to express their interest in becoming cooperating agencies for the preparation of the EIS. These agencies may choose to participate once they have evaluated the proposal relative to their responsibilities. Agencies that would like to request cooperating agency status should follow the instructions for filing comments provided in Appendix 2.

Currently Identified Environmental Issues

We have already identified issues that we think deserve attention based on a preliminary review of the project area, the planned facility information provided by FGS, and the public open house sponsored by FGS and attended by FERC. This preliminary list of issues, which is presented below, may be revised based on your comments and our continuing analyses.

• Potential impacts on residents in the project area, including safety issues at the storage facility, noise, air quality, and visual resources.

• Potential impacts of the construction of the storage facility and the pipeline on property values.

• Potential impacts on threatened and endangered species.

• Potential impacts on wetlands, vegetation, and wildlife habitat.

• Potential impacts on cultural resources.

Public Participation

You can make a difference by providing us with your specific comments or concerns about the planned project. By becoming a commentor, your concerns will be addressed in the EIS and considered by the Commission. Your comments should focus on the potential environmental effects, reasonable alternatives (including alternative facility sites and pipeline routes), and measures to avoid or lessen environmental impacts. The more specific your comments, the more useful they will be. To ensure that your comments are timely and properly recorded, please follow these instructions:

• Send an original and two copies of your letter to: Magalie R. Salas, Secretary, Federal Energy Regulatory Commission, 888 First St., NE., Room 1A, Washington, DC 20426.

• Label one copy of your comments for the attention of Gas Branch 2, DG2E.

• Reference Docket No. PF07-3-000 on the original and both copies. Mail your comments so that they will be received in Washington, DC on or before March 19, 2007.

The Commission strongly encourages electronic filing of any comments in response to this NOI. For information on electronically filing comments, please see the instructions on the Commission's Web site at http://www.ferc.gov under the “e-Filing” link and the link to the User's Guide as well as information in 18 CFR 385.2001(a)(1)(iii). Before you can file comments you will need to create a free account, which can be accomplished on-line.

The public scoping meeting (date, time, and location listed above) are designed to provide another opportunity to offer comments on the proposed project. Interested groups and individuals are encouraged to attend the meetings and to present comments on the environmental issues that they believe should be addressed in the EIS. A transcript of the meeting will be generated so that your comments will be accurately recorded.

Once FGS formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

If you wish to remain on the environmental mailing list, please return the attached Mailing List Retention Form (Appendix 3 of this NOI). If you do not return this form, we will remove your name from our mailing list.

To reduce printing and mailing costs, the draft and final EIS will be issued in both compact disk (CD-ROM) and hard copy formats. The FERC strongly encourages the use of CD-ROM format in its publication of large documents. Thus, all recipients will automatically receive the EIS on CD-ROM. If you wish to receive a paper copy of the draft EIS instead of a CD-ROM, you must indicate that choice on the return mailer.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF07-3) in the “Docket Number” field. Be sure you have selected an appropriate date range. For assistance with eLibrary, the eLibrary helpline can be reached at 1-866-208-3676, TTY (202) 502-8659, or by e-mail at FercOnlineSupport@ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, FGS has established an Internet Web site for this project at http://www.floridiangasstorage.com. The Web site includes a project overview, status, answers to frequently asked questions, and links to related documents. You can also request additional information by calling FGS directly at (800) 621-6843.

Magalie R. Salas,
Secretary.

[FR Doc. E7-3348 Filed 2-26-07; 8:45 am]

BILLING CODE 6717-01-P